SMALL BUSINESS ADMINISTRATION

[License No. 05/05-0293]

Convergent Capital Partners II, L.P.; Notice Seeking Exemption Under Section 312 of the Small Business Investment Act, Conflicts of Interest

Notice is hereby given that Convergent Capital Partners II, L.P., 505 North Highway 169, Suite 245, Minneapolis, MN, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Convergent Capital Partners II, L.P., proposes to provide debt security financing to Progressive Rail, Inc., 21778 Highview Avenue, Lakeville, MN 55044. The financing is contemplated for growth and general corporate purposes.

The financing is brought within the purview of § 107.730(a)(1) of the Regulations because Convergent Capital Partners II, L.P.'s financing will discharge an obligation of Progressive Rail, Inc., owed to Convergent Capital Partners I, L.P., which is considered an Associate of Convergent Capital Partners II, L.P., as defined in Sec. 105.50 of the regulations.

Notice is hereby given that any interested person may submit written comments on the transaction to the Associate Administrator for Investment and Innovation, U.S. Small Business Administration, 409 Third Street, SW., Washington, DC 20416.

Dated: February 11, 2011.
Sean J. Greene,
Associate Administrator for Investment and Innovation.

[FR Doc. 2011-3771 Filed 2-17-11; 8:45 am]

BILLING CODE 8025-01-P